DEPARTMENT OF LABOR

Employment and Training Administration

Information Collection Request for the ETA 9128, Reemployment and Eligibility Assessments Workloads Report, and the ETA 9129, Reemployment and Eligibility Assessments Outcomes Report: Extension Without Change, Comment Request

AGENCY: Employment and Training Administration.

ACTION: Notice.

SUMMARY: The Department of Labor, as part of its continuing effort to reduce paperwork and respondent burden, conducts a preclearance consultation program to provide the general public and Federal agencies with an opportunity to comment on proposed and/or continuing collection of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

A copy of the proposed information collection request (ICR) can be obtained by contacting the office listed below in the addressee section of this notice or by accessing: http://www.doleta.gov/OMBCN/OMBControlNumber.cfm.

DATES: Written comments must be submitted to the office listed in the addressee section below on or before February 2, 2009.

ADDRESSES: Send comments to Diane Wood, U.S. Department of Labor, Employment and Training Administration, Office of Workforce Security, 200 Constitution Avenue, NW., Frances Perkins Bldg. Room S-4531, Washington, DC 20210, telephone number (202) 693-3212 (this is not a toll-free number) or by e-mail at wood.diane@dol.gov.

SUPPLEMENTARY INFORMATION: I. Background: Funds were awarded to participating states in fiscal year 2008 to continue the Reemployment and Eligibility Assessment (REA) initiative. The REA guidelines require that these funds be used to conduct in-person assessments in the One-Stop Career Centers. The REA must include an unemployment insurance (UI) continued eligibility review, the provision of labor market information, development of a work-search plan and referral to reemployment services and/or training, as appropriate. The guidelines require that participation exclude those claimants who have a specific return-to-work date or who secure employment solely through a union hiring hall.

II. Desired Focus of Comments: Currently, the Employment and Training Administration is soliciting comments on extending the collection of the ETA 9128, Reemployment and Eligibility Assessments Workloads Report and the ETA 9129, Reemployment and Eligibility Assessments Outcomes Report. Comments are requested to:

• Evaluate whether the proposed collection of information is necessary to assess performance of the REA initiative, including whether the information has practical utility;

• Evaluate the accuracy of the agency's estimate of the burden of the proposed collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

III. Current Actions: The continued collection of the information contained on the ETA 9128 and the ETA 9129 reports is necessary to enable the Office of Workforce Security (OWS) to continue evaluating the effectiveness of this initiative through workload and outcomes reports.

Type of Review: Extension without change.

Agency: Employment and Training Administration (ETA).

Title: Reemployment and Eligibility Assessments Workloads Report and Reemployment and Eligibility Assessments Outcomes Report.

OMB Number: 1205-0456.

Agency Number: ETA 9128 and ETA 9129.

Affected Public: State and Local Governments.

Total Respondents: 53 potentially—In fiscal year 2009, 18 State Workforce Agencies are participating in the REA initiative. Additional states are expected to participate if funds are appropriated.

Frequency: Quarterly.

Total Responses: 72.

Average Time per Response: .5 hours.

Estimated Total Burden Hours: 36 hours.

Total Burden Cost (capital/startup): $0.

Total Burden Cost (operating/maintaining): $0.

Comments submitted in response to this notice will be summarized and/or included in the request for Office of Management and Budget approval of the information collection request; they will also become a matter of public record.

Dated: November 12, 2008.
Cheryl Atkinson,
Administrator, Office of Workforce Security.

[FR Doc. E8-28708 Filed 12-3-08; 8:45 am]

BILLING CODE 4510-FN-P